DEPARTMENT OF DEFENSE

Department of the Navy

32 CFR Part 765

RIN 0703-AA69

Rules Applicable to the Public

AGENCY: Department of the Navy, DOD.

ACTION: Final rule.

SUMMARY: This rule sets forth amendments on the rules applicable to the public. It is intended that this amendment will apprise members of the public of updated information on the redelegated authority to grant written permission to use the United States Marine Corps emblem, names, or initials and on changes to the mileage allowances on rewards for the return of Navy and Marine Corps absentees.

DATES: Effective October 19, 2000.

ADDRESSES: Office of the Judge Advocate General (Code 13), 1322 Patterson Ave SE, Suite 3000, Washington Navy Yard, DC 20374-5066.

FOR FURTHER INFORMATION CONTACT: Lieutenant Commander James L. Roth, JAGC, USN, Head, Regulations and Legislation, FOIA/PA Branch, Administrative Law Division, Office of the Judge Advocate General (Code 13), 1322 Patterson Ave SE, Suite 3000, Washington Navy Yard, DC 20374-5066, (703) 604-8200.

SUPPLEMENTARY INFORMATION: Pursuant to the authority cited below, the Department of the Navy amends 32 CFR Part 765. As part of our annual review of 32 CFR we identified a need to update information found at Part 765 concerning mileage allowances as part of the rewards for return of Navy and Marine Corps absentees and on the redelegated authority to grant written authority to use the emblem, names, and use of the United States Marine Corps. This rule is being published by the Department of the Navy for guidance and interest of the public in accordance with 5 U.S.C. 552(a)(1). It has been determined that invitation of public comment on this amendment would be impracticable and unnecessary, and it is therefore not required under the public rulemaking provisions of 32 CFR Part 336 or Secretary of the Navy Instruction 5720.45. Interested persons, however, are invited to comment in writing on this amendment. All written comments received will be considered in making subsequent amendments or revisions of 32 CFR Part 765, or the instructions on which they are based. Changes may be initiated on the basis of comments received. Written comments should be addressed to Lieutenant Commander James L. Roth, JAGC, USN, Head, Regulations and Legislation, FOIA/PA Branch, Administrative Law Division, Office of the Judge Advocate General (Code 13), 1322 Patterson Ave SE, Suite 3000, Washington Navy Yard, DC 20374-5066. It has been determined that this final rule is not a “significant regulatory action” as defined in Executive Order 12866.

Executive Order 13132, Federalism

It has been determined that this rule does not have sufficient Federalism implications to warrant the preparation of a Federalism Assessment. The provisions contained in this rule will have little or no direct effect on States or local governments.

Regulatory Flexibility Act

This rule will not have a significant economic impact on a substantial number of small entities for purposes of the Regulatory Flexibility Act (5 U.S.C. Chapter 6).

Paperwork Reduction Act

This rule does not impose collection of information requirements for purposes of the Paperwork Reduction Act (44 U.S.C. Chapter 35, 5 CFR Part 1320).

List of Subjects in 32 CFR Part 765

Reward, Seals and insignia.

For the reasons set forth in the preamble, the Department of the Navy amends 32 CFR Part 765 as follows:

PART 765—RULES APPLICABLE TO THE PUBLIC

1. The authority citation for part 765 continues to read as follows:

Authority: Secs. 5031, 6011, 70A Stat. 278, 375, as amended, sec. 133, 76 Stat. 517, sec. 301, 80 Stat. 379; 5 U.S.C. 301, 10 U.S.C. 133, 5031, 6011, 7881.

§ 765.14 [Amended]

2. In 32 CFR 765.14(d)(2) and (3), remove the term “Director of Headquarters Support (CMC(HQSP))” and add its place, the term “Director, Administration Resource Management (ARDE)” and remove the term “CMC (HQSP)” and add in its place the term “CMC (ARDE)”.

Dated: October 10, 2000.
C. G. Carlson,
Major, U.S. Marine Corps, Alternate Federal Register Liaison Officer.

[FR Doc. 00-26792 Filed 10-18-00; 8:45 am]

BILLING CODE 3810-FF-P